NATIONAL SCIENCE FOUNDATION

Proposal Review Panel for Chemistry; Notice of Meeting

In accordance with the Federal Advisory Committee Act (Pub. L. 92-463, as amended), the National Science Foundation announces the following meeting:

Name: Proposal Review Panel for Chemistry #1191.

Date and Time: May 17, 2011, 8:30 a.m.- 5 p.m.; May 18, 2011, 8:30 a.m.-2 p.m.

Place: Center for Enabling New Transformations in Catalysis (CENTC); University of Washington, Seattle, Washington.

Type of Meeting: Part-open.

Contact Person: Katharine Covert, Acting Deputy Division Director, Chemistry Centers Program, Division of Chemistry, Room 1055, National Science Foundation, 4201 Wilson Boulevard, Arlington, VA 22230, (703) 292-4950.

Purpose of Meeting: To provide advice and recommendations for continued funding of CENTC.

Agenda

Tuesday, May 17, 2011

8:30 a.m.-10 a.m. Open—Welcome, CCI presentations

10 a.m.-12 p.m. Open—Coffee break and Poster Session

12 p.m.-1:30 p.m. Closed—Lunch and Panel Deliberations

1:30 p.m.-3:30 p.m. Open—Additional CCI Presentations

3:30 p.m.-5 p.m. Closed—Panel Deliberations

Wednesday, May 18, 2011

8:30 a.m.-10 a.m. Open—Management Discussions with CCI

10 a.m.-1 p.m. Closed—Panel prepares report

1 p.m.-2 p.m. Open—Outbrief, CCI Leadership

Reason for Closing: The proposal being reviewed includes information of a proprietary or confidential nature, including technical information; financial data, such as salaries; and personal information concerning individuals associated with proposal. These matters that are exempt under 5 U.S.C. 552b(c)(4) and (6) of the Government Sunshine Act.

Dated: April 27, 2011.
Susanne Bolton,
Committee Management Officer.

[FR Doc. 2011-10600 Filed 5-2-11; 8:45 am]

BILLING CODE 7555-01-P